DEPARTMENT OF LABOR

Employment and Training Administration

[NAFTA-5115]

Hunt Forest Products, Inc. Castor Sawmill Castor, LA; Notice of Termination of Investigation

Pursuant to title V of the North American Free Trade Agreement Implementation Act (Pub. L. 103-182) concerning transitional adjustment assistance, hereinafter called (NAFTA-TAA), and in accordance with section 250(a), subchapter D, chapter 2, title II, of the Trade Act of 1974, as amended (19 U.S.C. 2273), an investigation was initiated on July 17, 2001, in response to a petition filed on behalf of workers at Hunt Forest Products, Inc., Castor Sawmill, Castor, Louisiana.

This case is being terminated because there is a petition pending which covers the workers of the subject company of the immediate investigation, NAFTA-5086. Consequently, further investigation in this case would serve no purpose, and the investigation has been terminated.

Signed at Washington, DC, this 20th day of August 2001.
Linda G. Poole,
Certifying Officer, Division of Trade Adjustment Assistance.

[FR Doc. 01-22694 Filed 9-10-01; 8:45 am]

BILLING CODE 4510-30-M